DEPARTMENT OF STATE

[Public Notice 3440]

Culturally Significant Objects Imported for Exhibition Determinations: “Dangerous Curves: The Art of the Guitar”

AGENCY: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999 [64 FR 57920], as amended by Delegation of Authority No. 236-3 of August 28, 2000 [65 FR 53795], I hereby determine that the objects to be included in the exhibit, “Dangerous Curves: The Art of the Guitar,” imported from abroad for the temporary exhibition without profit within the United States, are of cultural significance. These objects are imported pursuant to loan agreements with foreign lenders. I also determine that the temporary exhibition or display of the exhibit objects at the Museum of Fine Arts, Boston, Massachusetts from on or about November 5, 2000, to on or about February 24, 2001, is in the national interest. Public Notice of these determinations is ordered to be published in the Federal Register.

FOR FURTHER INFORMATION CONTACT: For further information, including a list of exhibit objects, contact Paul W. Manning, Attorney-Adviser, Office of the Legal Adviser, 202/619-5997, and the address is Room 700, United States Department of State, 301 4th Street, SW., Washington, DC 20547-0001.

Dated: September 29, 2000.
Helena Kane Finn,
Acting Assistant Secretary for Educational and Cultural Affairs, United States Department of State.

[FR Doc. 00-26090 Filed 10-10-00; 8:45 am]

BILLING CODE 4710-08-P